DEPARTMENT OF HEALTH AND HUMAN SERVICES

Administration for Children and Families

Rulemaking Making Notice of Approval

On September 5, 2007, the Department of Health and Human Services published a final rule governing error rate reporting under the Child Care and Development Fund (CCDF). In accordance with the Paperwork Reduction Act (PRA), the Office of Management and Budget (OMB) has approved the forms and instructions that will be used to implement the final rule on CCDF error rate reporting. This notice is published under authority of Reporting and Recordkeeping Requirements: Final Rule (1320.11(k)) published August 29, 1995.

Dated: September 4, 2007.
Robert Sargis,
Reports Clearance Officer.

[FR Doc. 07-4410 Filed 9-7-07; 8:45 am]

BILLING CODE 4184-01-M